NATIONAL AERONAUTICS AND SPACE ADMINISTRATION

[Notice (09-020)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: March 11, 2009.

FOR FURTHER INFORMATION CONTACT: James J. McGroary, Patent Counsel, Marshall Space Flight Center, Mail Code LS01, Huntsville, AL 35812; telephone (256) 544-0013; fax (256) 544-0258.

NASA Case No. MFS-32518-1: Liquid Propellant Injection Elements with Self-Adjusted Inlet Area for Rocket and Other Combustor-Type Engines Applications;

NASA Case No. MFS-32597-1: Electromagnetic Pump for High-Temperature Liquid Metals;

NASA Case No. MFS-32584-1: Optical System and Method for Gas Detection and Monitoring.

Richard W. Sherman,
Deputy General Counsel.

[FR Doc. E9-5110 Filed 3-10-09; 8:45 am]

BILLING CODE 7510-13-P